SMALL BUSINESS ADMINISTRATION

[Declaration of Disaster #P032]

State of North Dakota; Amendment #1

In accordance with a notice received from the Department of Homeland Security—Federal Emergency Management Agency, effective June 9, 2004, the above numbered declaration is hereby amended to include Bottineau, Burke, Mountrail, Renville, Towner, and Ward Counties in the State of North Dakota as a disaster area due to damages caused by severe storms, flooding, and ground saturation occurring on March 26, 2004 and continuing.

All other information remains the same, i.e., the deadline for filing applications for physical damage is July 6, 2004.

(Catalog of Federal Domestic Assistance Program Nos. 59008)
Dated: June 15, 2004.
Cheri L. Cannon,
Acting Associate Administrator for Disaster Assistance.

[FR Doc. 04-13972 Filed 6-18-04; 8:45 am]

BILLING CODE 8025-01-P